DEPARTMENT OF LABOR

Employment and Training Administration

[Docket No. TA-W-38, 893] and [NAFTA-04613]

The Budd Company Stamping and Frame Division Philadelphia, PA, Notice of Affirmative Determination Regarding Application for Reconsideration

By letter of July 9, 2001 the petitioner requested administrative reconsideration of the Department of Labor's Notice of Negative Determination Regarding Eligibility to Apply for Worker Adjustment Assistance and NAFTA Transitional Adjustment Assistance, applicable to petition numbers TA-W-38,893 and NAFTA 04613, respectively. The denial notices were signed on May 10, 2001 and published in the Federal Register on May 23, 2001 (66 FR 28553 and 28554, respectively).

The petitioner indicated that the subject firm opened a new stamping plant in Silao, Mexico during the fall of 2000. The petitioner further stated that the opening of the Mexican plant resulted in a significant shift in plant production to Mexico.

Conclusion

After careful review of the application, I conclude that the claim is of sufficient weight to justify reconsideration of the Department of Labor's prior decision. The application is, therefore, granted.

Signed at Washington, DC this 30th day of November 2001.
Edward A. Tomchick,
Director, Division of Trade Adjustment Assistance.

[FR Doc. 01-31619 Filed 12-21-01; 8:45 am]

BILLING CODE 4510-30-M